COMMITTEE FOR PURCHASE FROM PEOPLE WHO ARE BLIND OR SEVERELY DISABLED

Procurement List; Proposed Deletions

AGENCY: Committee for Purchase From People Who Are Blind or Severely Disabled.

ACTION: Proposed deletions from the Procurement List.

SUMMARY: The Committee is proposing to delete product(s) and service(s) from the Procurement List that were furnished by nonprofit agencies employing persons who are blind or have other severe disabilities.

DATES: Comments must be received on or before: October 17, 2021.

ADDRESSES: Committee for Purchase From People Who Are Blind or Severely Disabled, 1401 S Clark Street, Suite 715, Arlington, Virginia 22202-4149.

FOR FURTHER INFORMATION CONTACT: For further information or to submit comments contact: Michael R. Jurkowski, Telephone: (703) 785-6404, or email CMTEFedReg@AbilityOne.gov.

SUPPLEMENTARY INFORMATION: This notice is published pursuant to 41 U.S.C. 8503(a)(2) and 41 CFR 51-2.3. Its purpose is to provide interested persons an opportunity to submit comments on the proposed actions.

Deletions

The following product(s) and service(s) are proposed for deletion from the Procurement List:

Product(s)

NSN(s)—Product Name(s):

7530-01-600-7627—Monthly Desk Planner, Dated 2020, Wire Bound, Non-refillable, Black Cover

7530-01-600-7612—Weekly Planner Book, Dated 2020, 5″ x 8″, Black

7510-01-600-7571—Wall Calendar, Dated 2020, Wire Bound w/hanger, 15.5″ x 22″

7510-01-600-7577—Monthly Wall Calendar, Dated 2020, Jan-Dec, 8½″ x 11″

7510-01-600-8024—Dated 2020 12-Month 2-Sided Laminated Wall Planner, 24″ x 37″

Designated Source of Supply: Chicago Lighthouse Industries, Chicago, IL

Contracting Activity: GSA/FAS ADMIN SVCS ACQUISITION BR(2, NEW YORK, NY

NSN(s)—Product Name(s): 7520-01-587-9645—Pen, Ballpoint, Retractable, Hybrid Ink, 6 Pack, Blue, Medium Point

Designated Source of Supply: Industries for the Blind and Visually Impaired, Inc., West Allis, WI

Contracting Activity: GSA/FAS ADMIN SVCS ACQUISITION BR(2, NEW YORK, NY

NSN(s)—Product Name(s): 6840-00-551-8346—Disinfectant, Detergent, General Use, BioBased, Concentrate, 60% Pine Oil, 55 Gallon Drum

Designated Source of Supply: The Lighthouse for the Blind, St. Louis, MO

Contracting Activity: GSA/FSS GREATER SOUTHWEST ACQUISITI, FORT WORTH, TX

NSN(s)—Product Name(s): 6520-00-890-2080—Dental Kit, Adult

Designated Source of Supply: North Jersey Friendship House, Inc., Hackensack, NJ

Contracting Activity: DLA TROOP SUPPORT, PHILADELPHIA, PA

NSN(s)—Product Name(s):

6520-01-063-7477—Floss, Dental, Waxed, 100 Yards

6520-01-063-7478—Floss, Dental, Waxed, 200 Yards

Designated Source of Supply: North Jersey Friendship House, Inc., Hackensack, NJ

Contracting Activity: DLA TROOP SUPPORT, PHILADELPHIA, PA

NSN(s)—Product Name(s): 8530-00-080-6341—Toothbrush, Adult, 6″

Designated Source of Supply: North Jersey Friendship House, Inc., Hackensack, NJ

Contracting Activity: DLA TROOP SUPPORT, PHILADELPHIA, PA

Service(s)

Service Type: Laundry Service

Mandatory for: Virginia Army National Guard, Central Issue Facility, Defense Supply Center Richmond, Warehouse 15, Richmond, VA, 8000 Jefferson Davis Hwy., Richmond, VA

Designated Source of Supply: Louise W. Eggleston Center, Inc., Norfolk, VA

Contracting Activity: DEPT OF THE ARMY, W7N5 USPFO ACTIVITY VA ARNG

Service Type: Operations and Maintenance Services

Mandatory for: FAA, William J. Hughes Technical Center, Atlantic City International Airport, Atlantic City, NJ, Building 300, Fourth Floor, Atlantic City, NJ

Designated Source of Supply: Fedcap Rehabilitation Services, Inc., New York, NY

Contracting Activity: FEDERAL AVIATION ADMINISTRATION, DEPT OF TRANS/FEDERAL AVIATION ADMIN

Michael R. Jurkowski,
Acting Director, Business Operations.

[FR Doc. 2021-20133 Filed 9-16-21; 8:45 am]

BILLING CODE 6353-01-P